DEPARTMENT OF ENERGY

Federal Energy Regulatory Commission

[Project No. 8866-013]

Black Canyon Bliss, LLC; Notice of Waiver Period for Water Quality Certification Application

On January 11, 2023, Black Canyon Bliss, LLC submitted to the Federal Energy Regulatory Commission (Commission) evidence of the date on which the certifying agency received the certification request for a Clean Water Act section 401(a)(1) water quality certification filed with the Idaho Department of Environmental Quality, in conjunction with the above captioned project. Pursuant to 40 CFR 121.6 and section 4.34(b)(5) of the Commission's regulations,¹ we hereby notify the Idaho Department of Environmental Quality of the following:

¹ 18 CFR 4.34(b)(5).

Date of Receipt of the Certification Request: May 24, 2022.

Reasonable Period of Time to Act on the Certification Request: One year (May 24, 2023).

If the Idaho Department of Environmental Quality fails or refuses to act on the water quality certification request on or before the above date, then the agency certifying authority is deemed waived pursuant to section 401(a)(1) of the Clean Water Act, 33 U.S.C. 1341(a)(1).

Dated: January 13, 2023.
Kimberly D. Bose,
Secretary.

[FR Doc. 2023-01064 Filed 1-19-23; 8:45 am]

BILLING CODE 6717-01-P